SECURITIES AND EXCHANGE COMMISSION

[File No. 500-1]

Somerset International Group, Inc.; Order of Suspension of Trading

August 30, 2011.

It appears to the Securities and Exchange Commission that there is a lack of current and accurate information concerning the securities of Somerset International Group, Inc.

The Commission is of the opinion that the public interest and the protection of investors require a suspension of trading in the securities of the above-listed company.

Therefore, it is ordered, pursuant to Section 12(k) of the Securities Exchange Act of 1934, that trading in the securities of the above-listed company is suspended for the period from 9:30 a.m. EDT on August 30, 2011, through 11:59 p.m. EDT on September 13, 2011.

By the Commission.
Jill M. Peterson,
Assistant Secretary.

[FR Doc. 2011-22534 Filed 8-30-11; 4:15 pm]

BILLING CODE 8011-01-P